POSTAL SERVICE

Board of Governors; Sunshine Act Meeting

Date and Times: Tuesday, December 6, 2005; 8 a.m. and 10 a.m.

Place: Washington, DC, at U.S. Postal Service Headquarters, 475 L'Enfant Plaza, SW., in the Benjamin Franklin Room.

Status: December 6-8 a.m. (Open); 10 a.m. (Closed)

Matters To Be Considered

Tuesday, December 6 at 8 a.m. (Open)

1. Minutes of the Previous Meetings, November 1, and 16, 2005.

2. Remarks of the Postmaster General and CEO Jack Potter.

3. Committee Reports.

4. Fiscal Year 2005 Audited Financial Statements.

5. Postal Service Fiscal Year 2005 Annual Report.

6. Final Fiscal Year 2007 Appropriation Request.

7. Capital Investment—Mail Processing Infrastructure (MPI), Phase 3.

8. Tentative Agenda for the January 10, 2006, meeting in Washington, DC.

Tuesday, December 6 at 10 a.m. (Closed)

1. Financial Update and Rate Case Planning.

2. Labor Negotiations Planning.

3. Strategic Planning.

4. Personnel Matters and Compensation Issues.

Contact Person for More Information: William T. Johnstone, Secretary of the Board, U.S. Postal Service, 475 L'Enfant Plaza, SW., Washington, DC 20260-1000. Telephone (202) 268-4800.

William T. Johnstone,
Secretary.

[FR Doc. 05-23391 Filed 11-22-05; 4:43 pm]

BILLING CODE 7710-12-M